DEPARTMENT OF LABOR

Employment and Training Administration

[TA-W-38,442; CMI Industries, Inc., Clinton Fabric Division; TA-W-38,442B; TA-W-38,442C]

Amended Certification Regarding Eligibility To Apply for Worker Adjustment Assistance

In accordance with section 223 of the Trade Act of 1974 (19 U.S.C. 2273) the Department of Labor issued a Notice of Certification Regarding Eligibility to Apply for Worker Adjustment Assistance on April 13, 2001, applicable to workers of CMI Industries, Inc., Clinton Fabric Division, Clinton, South Carolina. The notice was published in the Federal Register on May 2, 2001 (66 FR 22007).

At the request of the company, the Department reviewed the certification for workers of the subject firm. New information shows that worker separations occurred at the Vance Complex and the Administrative Office of the Clinton Fabric Division of CMI Industries, Clinton, South Carolina. The Vance Complex workers are engaged in the production of griege woven fabric. Workers at the Administrative Office, Clinton Fabric Division, CMI Industries provide administrative services to support the production of griege woven fabric at the subject firms' manufacturing facilities.

Based on these findings, the Department is amending the certification to include workers of the Vance Complex and Administrative Office, CMI Industries, Clinton Fabric Division, Clinton, South Carolina.

The intent of the Department's certification is to include all workers of CMI Industries, Inc. who were adversely affected by increased imports of griege woven fabric.

The amended notice applicable to TA-W-38,442 is hereby issued as follows:

All workers of CMI Industries, Inc., Clinton Fabric Division, Clinton, South Carolina (TA-W-38,442) and Clinton Fabric Division, Vance Complex, Clinton, South Carolina (TA-W-38,442B) and Clinton Fabric Division, Administrative Office, Clinton, South Carolina (TA-W-38,442C) who became totally or partially separated from employment on or after December 4, 1999 through April 13, 2003 are eligible to apply for adjustment assistance under Section 223 of the Trade Act of 1974.

Signed at Washington, DC, this 30th day of May, 2001.
Linda G. Poole,
Certifying Officer, Division of Trade Adjustment Assistance.

[FR Doc. 01-15039 Filed 6-13-01; 8:45 am]

BILLING CODE 4510-30-M